DEPARTMENT OF THE INTERIOR

Bureau of Land Management

[NM-952-06-1420-BJ]

Notice of Filing of Plats of Survey; New Mexico

AGENCY: Bureau of Land Management, Interior.

ACTION: Notice.

SUMMARY: The plat of survey described below was officially filed in the New Mexico State Office, Bureau of Land Management, Santa Fe, New Mexico, on January 12, 2007.

SUPPLEMENTARY INFORMATION: New Mexico Principal Meridian, New Mexico: The plat representing the survey of Tracts within the Sebastian Martin Grant, accepted December 14, 2006, for Group 1057 New Mexico.

FOR FURTHER INFORMATION CONTACT: These plats will be available for inspection in the New Mexico State Office, Bureau of Land Management, and P.O. Box 27115, Santa Fe, New Mexico 87502-0115. Copies may be obtained from this office upon payment of $1.10 per sheet.

Dated: January 12, 2007.
Stephen W. Beyerlein,
Acting Chief Cadastral Surveyor, New Mexico.

[FR Doc. 07-203 Filed 1-18-07; 8:45 am]

BILLING CODE 4310-FB-P